DEPARTMENT OF THE INTERIOR

Fish and Wildlife Service

Notice of Intent to prepare a Comprehensive Conservation Plan and Environmental Assessment for ACE Basin National Wildlife Refuge in Charleston County, SC

AGENCY: Fish and Wildlife Service, Interior.

ACTION: Notice of intent.

SUMMARY: The Fish and Wildlife Service, Southeast Region, intends to gather information necessary to prepare a comprehensive conservation plan and environmental assessment pursuant to the National Environmental Policy Act of 1969 and its implementing regulations.

The National Wildlife Refuge System Administration Act of 1966, as amended by the National Wildlife Refuge System Improvement Act of 1997, requires the Service to develop a comprehensive conservation plan for each national wildlife refuge. The purpose in developing a comprehensive conservation plan is to provide refuge managers with a 15-year strategy for achieving refuge purposes and contributing toward the mission of the National Wildlife Refuge System, consistent with sound principles of fish and wildlife management, conservation, legal mandates, and Service policies. In addition to outlining broad management direction on conserving wildlife and their habitats, plans identify wildlife-dependent recreational opportunities available to the public, including opportunities for hunting, fishing, wildlife observation, wildlife photography, and environmental education and interpretation.

The purpose of this notice is to achieve the following:

(1) Advise other agencies and the public of our intentions, and

(2) Obtain suggestions and information on the scope of issues to include in the environmental document.

DATES: Please provide written comments on the scope of issues to include in the environmental document by March 5, 2007.

ADDRESSES: Comments, questions, and requests for more information regarding the ACE Basin National Wildlife Refuge planning process should be sent to: Van Fischer, Natural Resource Planner, South Carolina Lowcountry Refuge Complex, 5801 Highway 17 North, Awendaw, South Carolina 29429; Telephone: 843/928-3264; Fax: 843/928-3803; Electronic mail: van_fischer@fws.gov.

SUPPLEMENTARY INFORMATION: Special mailings, newspaper articles, and other media announcements will be used to inform the public and state and local government agencies of the opportunities for input throughout the planning process. Open-house style public meetings will be held during the scoping phase of the comprehensive conservation plan development process. During this process, many elements will be considered, including wildlife and habitat management, public use opportunities, and cultural resource protection. Public input during the planning process is essential. All comments received become part of the official public record. Requests for such comments will be handled in accordance with the Freedom of Information Act and other Service and Departmental policies and procedures.

ACE Basin National Wildlife Refuge was established on September 20, 1990, to help protect the largest undeveloped estuary along the Atlantic Coast. It consists of rich bottomland hardwoods and freshwater and saltwater marshes, offering food and cover to a variety of wildlife. The refuge is part of an overall ACE Basin Project Habitat Protection and Enhancement Plan implemented by a coalition consisting of the Fish and Wildlife Service, South Carolina Department of Natural Resources, Ducks Unlimited, The Nature Conservancy, The Low Country Open Land Trust, Westvaco, and private landowners of the ACE Basin.

The name ACE Basin represents the Ashepoo, Combahee, and Edisto Rivers, which form the estuary and parts of the refuge boundary. The entire basin encompasses more than 350,000 acres, of which the refuge comprises just less than 12,000 acres. Additional information concerning this refuge may be found at the Service's Internet site: http://www.fws.gov/refuges.

Authority: This notice is published under the authority of the National Wildlife Refuge System Improvement Act of 1997, Public Law 105-57.

Dated: December 1, 2006.
Cynthia K. Dohner,
Acting Regional Director.

[FR Doc. E6-22455 Filed 12-29-06; 8:45 am]

BILLING CODE 4310-55-P